DEPARTMENT OF TRANSPORTATION

Federal Aviation Administration

14 CFR Part 39

[Docket No. 2003-NM-233-AD; Amendment 39-14585; AD 2006-10-01]

RIN 2120-AA64

Airworthiness Directives; Bombardier Model CL-600-2B19 (Regional Jet Series 100 & 440) Airplanes

AGENCY: Federal Aviation Administration, DOT.

ACTION: Final rule.

SUMMARY: This amendment supersedes an existing airworthiness directive (AD), applicable to certain Bombardier Model CL-600-2B19 (Regional Jet Series 100 & 440) airplanes, that currently requires installation of protective tape on the fire and overheat control unit located in the flight compartment. This amendment requires the installation of protective tape and adds repetitive inspections of the condition of the protective tape and related corrective action. This amendment also mandates eventual replacement of the existing fire and overheat control unit with a modified unit, which ends the repetitive inspections. Additionally, this amendment adds airplanes to the applicability in the existing AD. The actions specified by this AD are intended to prevent fluid contamination inside the fire and overheat control unit, which could result in a false fire alarm and consequent emergency landing. This action is intended to address the identified unsafe condition.

DATES: Effective June 12, 2006.

The incorporation by reference of certain publications listed in the regulations is approved by the Director of the Federal Register as of June 12, 2006.

On August 22, 2003 (68 FR 42580, July 18, 2003), the Director of the Federal Register approved the incorporation by reference of Bombardier Alert Service Bulletin A601R-26-017, Revision “A,” dated September 8, 2000.

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; or at the FAA, New York Aircraft Certification Office, 1600 Stewart Avenue, suite 410, Westbury, New York.

FOR FURTHER INFORMATION CONTACT: Rocco Viselli (or James Delisio), Aerospace Engineer, Airframe and Propulsion Branch, ANE-171, FAA, New York Aircraft Certification Office, 1600 Stewart Avenue, suite 410, Westbury, New York; telephone (516) 228-7331 (or (516) 228-7321); fax (516) 794-5531.

SUPPLEMENTARY INFORMATION: A proposal to amend part 39 of the Federal Aviation Regulations (14 CFR part 39) by superseding AD 2003-14-17, amendment 39-13236 (68 FR 42580, July 18, 2003), which is applicable to certain Bombardier Model CL-600-2B19 (Regional Jet Series 100 & 440) airplanes, was published in the Federal Register on April 6, 2004 (69 FR 17987). This action proposed to continue to require the installation of protective tape and to add repetitive inspections of the condition of the protective tape and related corrective action. This action also proposed to mandate eventual replacement of the existing fire and overheat control unit with a modified unit, which would end the repetitive inspections. Additionally, this action proposed to add airplanes to the applicability in the existing AD.

Comments

Interested persons have been afforded an opportunity to participate in the making of this amendment. Due consideration has been given to the comments received.

Requests To Refer to Current Revision of Service Information

Two commenters, Air Wisconsin Airlines and Bombardier, request that we change one service information reference in the notice of proposed rulemaking (NPRM). Bombardier states that the NPRM refers to Service Bulletin 601R-26-018, Revision ‘A,’ dated February 27, 2003, in several places, although Revision ‘B,’ dated November 6, 2003, is the current revision. Bombardier requests that we change all references in the NPRM from Revision ‘A’ to Revision ‘B.’ Air Wisconsin Airlines states that the compliance time of “8,000 flight hours or 36 months from the issue date of this service bulletin,” specified by Revision ‘A’ has been changed to “20,000 flight hours from the issue date of this service bulletin or before December 31, 2010,” in Revision ‘B.’ Air Wisconsin Airlines notes that paragraph (e) of the NPRM refers to “20,000 flight hours” and suggests changing the service information reference in paragraph (e) from Revision ‘A’ to Revision ‘B’ to bring the “20,000 flight hours” into agreement with the current service information.

We have reviewed Bombardier Service Bulletin 601R-26-018, Revision ‘B,’ dated November 6, 2003. Except for the changed compliance time noted and an added reference to Transport Canada Civil Aviation (TCCA), Revision ‘A’ and Revision ‘B’ are essentially the same; therefore, we agree with this request for the reasons given. We have revised paragraphs (c), (e), and (f) of the AD to refer to Service Bulletin 601R-26-018, Revision ‘B,’ as the appropriate source of service information for accomplishing certain requirements of the AD.

Request To Extend Compliance Time

One commenter, Bombardier, requests that we revise the compliance time specified in paragraph (e) of the NPRM. Bombardier states that “20,000 flight hours or 84 months,” is not consistent with applying 5,000 flight hours as equivalent to 24 months of operation for a typical affected airplane. Bombardier states that “20,000 flight hours or 96 months,” would more accurately reflect this application.

We partially agree. Bombardier's analysis does indicate that a longer period of compliance time may be warranted. However, we have determined that 89 months, rather than 96 months, would more accurately reflect the compliance time mandated by Canadian airworthiness directive CF-2000-35R1, dated July 2, 2003. Therefore, we have revised paragraph (e) of the AD to specify a compliance time of “20,000 flight hours or 89 months after the effective date of this AD, whichever occurs first.”

Change to Applicability

The reference to Service Bulletin 601R-26-018, Revision ‘A’ is changed to Revision ‘B’ in the applicability of the AD; however, no airplanes are added to or deleted from the applicability.

Change to Compliance Time Priority

To properly reflect the priority of the compliance times specified in Canadian airworthiness directive CF-2000-35R1, we have revised paragraph (d) of the AD to read, “Within 5,000 flight hours or 24 months after the effective date of this AD, whichever occurs first.”

Credit for Use of Previous Issues of Service Information

The statement, “This revision has no effect on aircraft which have a previous issue of this service bulletin incorporated,” appears in Bombardier Service Bulletin 601R-26-018, Revision ‘B,’ dated November 6, 2003, and in Bombardier Alert Service Bulletin A601R-26-017, Revision ‘D,’ dated November 6, 2003. Therefore, we have added new paragraph (g) to the AD to give credit for actions accomplished in accordance with Alert Service Bulletin A601R-26-017, Revision ‘C,’ dated November 6, 2003; and with Service Bulletin 601R-26-018, dated December 2, 2002, and Revision ‘A,’ dated February 27, 2003. We have re-identified existing paragraph (g) and subsequent paragraphs in the AD.

Clarification of Alternative Method of Compliance (AMOC) Paragraph

We have revised this action to clarify the appropriate procedure for notifying the principal inspector before using any approved AMOC on any airplane to which the AMOC applies.

Conclusion

After careful review of the available data, including the comments noted above, the FAA has determined that air safety and the public interest require the adoption of the rule with the changes previously described. The FAA has determined that these changes will neither increase the economic burden on any operator nor increase the scope of the AD.

Cost Impact

There are about 240 airplanes of U.S. registry that will be affected by this AD.

The installation of protective tape that is currently required by AD 2003-14-17 takes about 1 work hour per airplane to do, at an average labor rate of $65 per work hour. Based on these figures, the cost impact of the currently required actions is estimated to be $65 per airplane.

The new inspection required by this AD action will take about 1 work hour per airplane to do, at an average labor rate of $65 per work hour. Based on these figures, the cost impact of the inspection required by this AD on U.S. operators is estimated to be $15,600, or $65 per airplane, per inspection cycle.

The replacement required by this AD action will take about 2 work hours per airplane to do, at an average labor rate of $65 per work hour. Parts cost will be minimal. Based on these figures, the cost impact of the replacement required by this AD on U.S. operators is estimated to be $31,200, or $130 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-13236 (68 FR 42580, July 18, 2003), and by adding a new airworthiness directive (AD), amendment 39-14585, to read as follows:

2006-10-01 Bombardier, Inc. (Formerly Canadair): Docket 2003-NM-233-AD. Supersedes AD 2003-14-17, Amendment 39-13236.

Applicability: Model CL-600-2B19 (Regional Jet Series 100 & 440) airplanes; certificated in any category; as identified in Bombardier Alert Service Bulletin A601R-26-017, Revision “D,” dated November 6, 2003; and Bombardier Service Bulletin 601R-26-018, Revision “B,” dated November 6, 2003.

Compliance: Required as indicated, unless accomplished previously.

To prevent fluid contamination inside the fire and overheat control unit in the flight compartment, which could result in a false fire alarm and consequent emergency landing, accomplish the following:

Restatement of Requirements of AD 2003-14-17

Installation of Protective Tape

(a) For airplanes listed in Bombardier Alert Service Bulletin A601R-26-017, Revision “A,” dated September 8, 2000: Within 250 flight hours or 30 days after August 22, 2003 (the effective date of AD 2003-14-17), whichever occurs first, install protective tape on the external cover of the fire and overheat control unit located in the flight compartment per the Accomplishment Instructions of Bombardier Alert Service Bulletin A601R-26-017, Revision “A,” dated September 8, 2000.

(b) Installation of protective tape on the external cover of the fire and overheat control in the flight compartment, done before August 22, 2003, per Bombardier Alert Service Bulletin A601R-26-017, dated August 4, 2000; or Revision “B,” dated February 6, 2003; is acceptable for compliance with the requirements of paragraphs (a) and (c) of this AD.

New Requirements of This AD

Installation of Protective Tape

(c) For airplanes identified in Bombardier Alert Service Bulletin A601R-26-017, Revision “D,” dated November 6, 2003; and Bombardier Service Bulletin 601R-26-018, Revision “B,” dated November 6, 2003; on which the requirements specified in paragraph (a) of this AD have not been done as of the effective date of this AD: Within 250 flight hours or 30 days after the effective date of this AD, whichever occurs first, install protective tape on the external cover of the fire and overheat control unit located in the flight compartment in accordance with the Accomplishment Instructions of Bombardier Alert Service Bulletin A601R-26-017, Revision “D,” dated November 6, 2003. Accomplishment of this paragraph terminates the requirements of paragraph (a) of this AD.

Repetitive Inspections/Corrective Action

(d) Within 5,000 flight hours or 24 months after the effective date of this AD, whichever occurs first: Do a general visual inspection to determine the condition of the protective tape on the external cover of the fire and overheat control unit, in accordance with the Accomplishment Instructions of Bombardier Alert Service Bulletin A601R-26-017, Revision “D,” dated November 6, 2003.

(1) If the protective tape is not damaged and provides an adequate seal to prevent entry of liquid at the fastener and hinge positions of the unit: Repeat the inspection thereafter at intervals not to exceed 5,000 flight hours or 24 months, whichever is later.

(2) If the protective tape is damaged or does not provide an adequate seal to prevent entry of liquid at the fastener and hinge positions of the unit: Before further flight, replace the protective tape with new tape in accordance with the service bulletin. Repeat the inspection thereafter at intervals not to exceed 5,000 flight hours or 24 months, whichever is later, until paragraph (e) of the AD is accomplished.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Replacement

(e) Within 20,000 flight hours or 89 months after the effective date of this AD, whichever occurs first: Replace the fire and overheat control unit with a modified unit, in accordance with the Accomplishment Instructions of Bombardier Service Bulletin 601R-26-018, Revision “B,” dated November 6, 2003. Accomplishment of the replacement terminates the repetitive inspections required by paragraph (d) of this AD.

No Reporting Required

(f) Where Bombardier Alert Service Bulletin A601R-26-017, Revision “D,” dated November 6, 2003; and Bombardier Service Bulletin 601R-26-018, Revision “B,” dated November 6, 2003; describe procedures for completing a reporting sheet, this AD does not require that action.

Credit for Use of Previous Issues of Service Bulletin

(g) Actions accomplished before the effective date of this AD in accordance with Bombardier Alert Service Bulletin A601R-26-017, Revision “C,” dated November 6, 2003; and Bombardier Service Bulletin 601R-26-018, dated December 2, 2002; or Revision “A,” dated February 27, 2003; as applicable; are considered acceptable for compliance with the corresponding requirements of this AD.

Part Installation

(h) As of the effective date of this AD, no person may install a fire and overheat control unit, part number 472597-01, on any airplane, unless the unit has been modified per paragraph (e) of this AD.

Alternative Methods of Compliance

(i)(1) In accordance with 14 CFR 39.19, the Manager, New York Aircraft Certification Office (ACO), FAA, is authorized to approve alternative methods of compliance for this AD.

(2) Before using any AMOC approved in accordance with § 39.19 on any airplane to which the AMOC applies, notify the appropriate principal inspector in the FAA Flight Standards Certificate Holding District Office.

Incorporation by Reference

(j) Unless otherwise specified in this AD, the actions must be done in accordance with Bombardier Alert Service Bulletin A601R-26-017, Revision “A,” dated September 8, 2000, or Bombardier Alert Service Bulletin A601R-26-017, Revision “D,” dated November 6, 2003; and Bombardier Service Bulletin 601R-26-018, Revision “B,” dated November 6, 2003; as applicable.

(1) The incorporation by reference of Bombardier Alert Service Bulletin A601R-26-017, Revision “D,” dated November 6, 2003; and Bombardier Service Bulletin 601R-26-018, Revision “B,” dated November 6, 2003; is approved by the Director of the Federal Register in accordance with 5 U.S.C. 552(a) and 1 CFR part 51.

(2) On August 22, 2003 (68 FR 42580, July 18, 2003), the Director of the Federal Register approved the incorporation by reference of Bombardier Alert Service Bulletin A601R-26-017, Revision “A,” dated September 8, 2000.

(3) To get copies of this service information, contact Bombardier, Inc., Canadair, Aerospace Group, P.O. Box 6087, Station Centre-ville, Montreal, Quebec H3C 3G9, Canada. To inspect copies of this service information, go to the FAA, Transport Airplane Directorate, 1601 Lind Avenue, SW., Renton, Washington; or to the FAA, New York Aircraft Certification Office, 1600 Stewart Avenue, suite 410, Westbury, New York; or to the National Archives and Records Administration (NARA). For information on the availability of this material at the NARA, call (202) 741-6030, or go to http://www.archives.gov/federal_register/code_of_federal_regulations/ibr_locations.html.

Note 2: The subject of this AD is addressed in Canadian airworthiness directive CF-2000-35R1, dated July 2, 2003.

Effective Date

(k) This amendment becomes effective on June 12, 2006.

Issued in Renton, Washington, on April 28, 2006.
Ali Bahrami,
Manager, Transport Airplane Directorate, Aircraft Certification Service.

[FR Doc. 06-4231 Filed 5-5-06; 8:45 am]

BILLING CODE 4910-13-P